COMMODITY FUTURES TRADING COMMISSION

17 CFR Parts 39 and 140

RIN 3038-AE87

Registration With Alternative Compliance for Non-U.S. Derivatives Clearing Organizations

AGENCY: Commodity Futures Trading Commission.

ACTION: Extension of comment period.

SUMMARY: On July 19, 2019, the Commodity Futures Trading Commission (Commission) published in the Federal Register a notice of proposed rulemaking (NPRM) titled Registration With Alternative Compliance for Non-U.S. Derivatives Clearing Organizations. The comment period for the NPRM closes on September 17, 2019. The Commission is extending the comment period for this NPRM by an additional 60 days.

DATES: The comment period for the NPRM titled Registration With Alternative Compliance for Non-U.S. Derivatives Clearing Organizations is extended through November 18, 2019.

ADDRESSES: You may submit comments, identified by “Registration With Alternative Compliance for Non-U.S. Derivatives Clearing Organizations” and RIN number 3038-AE87, by any of the following methods:

• CFTC Comments Portal: https://comments.cftc.gov. Select the “Submit Comments” link for this rulemaking and follow the instructions on the Public Comment Form.

• Mail: Send to Christopher Kirkpatrick, Secretary of the Commission, Commodity Futures Trading Commission, Three Lafayette Centre, 1155 21st Street NW, Washington, DC 20581.

• Hand Delivery/Courier: Follow the same instructions as for Mail, above.

Please submit your comments using only one of these methods. To avoid possible delays with mail or in-person deliveries, submissions through the CFTC Comments Portal are encouraged.

All comments must be submitted in English, or if not, accompanied by an English translation. Comments will be posted as received to https://comments.cftc.gov. You should submit only information that you wish to make available publicly. If you wish the Commission to consider information that you believe is exempt from disclosure under the Freedom of Information Act (FOIA), a petition for confidential treatment of the exempt information may be submitted according to the procedures established in § 145.9 of the Commission's regulations.¹

¹ 17 CFR 145.9.

The Commission reserves the right, but shall have no obligation, to review, pre-screen, filter, redact, refuse or remove any or all of your submission from https://comments.cftc.gov that it may deem to be inappropriate for publication, such as obscene language. All submissions that have been redacted or removed that contain comments on the merits of the rulemaking will be retained in the public comment file and will be considered as required under the Administrative Procedure Act and other applicable laws, and may be accessible under the FOIA.

FOR FURTHER INFORMATION CONTACT: Eileen A. Donovan, Deputy Director, 202-418-5096, edonovan@cftc.gov; Parisa Abadi, Associate Director, 202-418-6620, pabadi@cftc.gov; Eileen R. Chotiner, Senior Compliance Analyst, 202-418-5467, echotiner@cftc.gov; Brian Baum, Special Counsel, 202-418-5654, bbaum@cftc.gov; August A. Imholtz III, Special Counsel, 202-418-5140, aimholtz@cftc.gov; Abigail S. Knauff, Special Counsel, 202-418-5123, aknauff@cftc.gov; Division of Clearing and Risk, Commodity Futures Trading Commission, Three Lafayette Centre, 1155 21st Street NW, Washington, DC 20581.

SUPPLEMENTARY INFORMATION: On July 19, 2019, the Commission published in the Federal Register an NPRM proposing amendments to its regulations that would permit derivatives clearing organizations (DCOs) organized outside of the United States that do not pose substantial risk to the U.S. financial system to register with the Commission yet comply with the core principles applicable to DCOs set forth in the Commodity Exchange Act through compliance with their home country regulatory regime, subject to certain conditions and limitations.² The Commission also proposed certain related amendments to the delegation provisions in its regulations. The comment period for the NPRM closes on September 17, 2019. As requested by commenters, the Commission is extending the comment period for this NPRM by an additional 60 days.³ This extension of the comment period will allow interested persons additional time to analyze the proposal and prepare their comments.

² Registration With Alternative Compliance for Non-U.S. Derivatives Clearing Organizations, 84 FR 34819 (July 19, 2019).

³ See Comment Letter from the Futures Industry Association, the Securities Industry and Financial Markets Association, the Intercontinental Exchange, Inc., and the Managed Funds Association (August 30, 2019), available at https://comments.cftc.gov/PublicComments/ViewComment.aspx?id=62171&SearchText=.

Issued in Washington, DC, on September 13, 2019, by the Commission.
Robert Sidman,
Deputy Secretary of the Commission.

Note: The following appendix will not appear in the Code of Federal Regulations.

Appendix to Registration With Alternative Compliance for Non-U.S. Derivatives Clearing Organizations—Commission Voting Summary

On this matter, Chairman Tarbert and Commissioners Quintenz, Behnam, and Berkovitz voted in the affirmative. No Commissioner voted in the negative. Commissioner Stump was recused from consideration of this matter.

[FR Doc. 2019-20188 Filed 9-17-19; 8:45 am]

BILLING CODE 6351-01-P